DEPARTMENT OF DEFENSE

Office of the Secretary

Meeting of the Advisory Council on Dependents' Education

AGENCY: Department of Defense Education Activity (DoDEA), DoD.

ACTION: Notice of Federal Advisory Committee Meeting

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meetings of the Advisory Council on Dependents' Education will take place.

DATES: Meeting 1: Friday, December 10, 2010 from 8 a.m. to 11 a.m. Eastern Standard Time.

Meeting 2: Friday, December 17, 2010 from 12 p.m. to 4 p.m. Central European Time and 6 a.m. to 10 a.m. Eastern Standard Time via Video-teleconference (VTC).

ADDRESSES: Meeting 1: 4040 North Fairfax Drive, Arlington, VA 22203.

Meeting 2: Best Western Hotel Riedstern, Stahlbaustrasse 17, Riedstadt, Germany 64560.

Meeting 2: VTC, 4040 North Fairfax Drive, Arlington, VA 22203.

FOR FURTHER INFORMATION CONTACT: Ms. Leesa Rompre at (703) 588-3128 or Leesa.Rompre@hq.dodea.edu.

SUPPLEMENTARY INFORMATION: Purpose of the Meetings: Recommend to the Acting Director DoDEA, general policies for the operation of the Department of Defense Dependents Schools (DoDDS); to provide the Acting Director with information about effective educational programs and practices that should be considered by DoDDS; and to perform other tasks as may be required by the Secretary of Defense.

Agendas: The meeting agendas will reflect current DoDDS schools operational status, educational practices, and other educational matters that come before the council.

Public's Accessibility to the Meeting: Pursuant to 5 U.S.C. 552b and 41 CFR 102-3.140 through 102-3.165 and the availability of space, these meetings are open to the public. Seating is on a first-come basis. The purpose of the VTC meeting on December 17 is to provide the public in the United States access to the meeting held at the location in Germany.

Committee's Point of Contact: Ms. Leesa Rompre at (703) 588-3128, 4040 North Fairfax Drive, Arlington, VA 22203 or Leesa.Rompre@hq.dodea.edu.

Special Accommodations: Individuals requiring special accommodations to access the public meeting should contact Ms. Rompre at least five (5) business days prior to the meeting so that appropriate arrangements can be made.

Written Statements: Pursuant to 41 CFR 102-3.105(j) and 102-3.140 and section 10(a)(3) of the Federal Advisory Committee Act of 1972, the public or interested organizations may submit written statements to the Advisory Council on Dependents' Education about its mission and functions. Written statements may be submitted at any time or in response to the stated agendas of the planned meeting of the Advisory Council on Dependents' Education.

All written statements shall be submitted to the Designated Federal Officer (DFO) for the Advisory Council on Dependents' Education, Dr. Patrick Dworakowski, 4040 North Fairfax Drive, Arlington, VA 22203; Patrick.Dworakowski@hq.dodea.edu or (703) 588-3127.

Statements being submitted in response to the agendas mentioned in this notice must be received by the DFO at the address listed above at least fourteen calendar days prior to the meeting, which is the subject of this notice. Written statements received after this date may not be provided to or considered by the Advisory Council on Dependents' Education until its next meeting.

The DFO will review all timely submissions with the Advisory Council on Dependents' Education Chairpersons and ensure they are provided to all members of the Advisory Council on Dependents' Education before the meeting that is the subject of this notice.

Oral Statements by the Public to the Membership: Pursuant to 41 CFR 102-3.140(d), time will be allotted for public comments to the Advisory Council on Dependents' Education. Individual comments will be limited to a maximum of five minutes duration. The total time allotted for public comments will not exceed thirty minutes.

Dated: November 2, 2010.
Morgan F. Park,
Alternate OSD Federal Register Liaison Officer, Department of Defense.

[FR Doc. 2010-28643 Filed 11-12-10; 8:45 am]

BILLING CODE 5001-06-P